DEPARTMENT OF COMMERCE

National Oceanic and Atmospheric Administration

Transforming In Situ Global Ocean Observing Systems Through Public-Private Partnerships

AGENCY: National Oceanic and Atmospheric Administration (NOAA), Office of Oceanic and Atmospheric Research (OAR), Department of Commerce (DOC).

ACTION: Notice; request for information (RFI).

SUMMARY: NOAA recognizes the pivotal roles of academia and industry in driving competition, innovation, and efficiency through strategic public-private partnerships. This RFI is soliciting information from organizations across these various sectors to assess interest and capability for adopting the long-term operation and sustainment of mature global observing systems—or elements of these observing systems (e.g., deployments, data management, etc.). This RFI is for informational purposes only and does not constitute a request for proposals or solicitation for a contract or grant award, nor does it obligate the Government in any way. The Government will not reimburse respondents for any costs associated with responding to this request.

DATES: Responses must be received on or before July 31st.

ADDRESSES: Interested parties are requested to submit capability statements describing their qualifications, expertise, products, and data delivery methods addressing one or more of the mature observing systems listed below. Submit via email to Katelyn Robinson (katelyn.robinson@noaa.gov) and Jessica Snowden (jessica.snowden@noaa.gov). Include “Transforming In Situ Global Ocean Observing Systems through Public-Private Partnerships” in the subject line of the message. Please include the following key elements:

Organization Information:

A. Contact Information: Key points of contact within the company, such as the primary contact person's name, title, email, and phone number.

B. Past Performance: Examples of previous work, including successful projects, notable clients/funding bodies, and relevant contracts or partnerships. Include descriptions of the following:

1. Organizational history—a description of your organization's primary products, services, and specialized skills relevant to ocean observing systems. Include what sets your organization apart from other companies, such as unique strengths, specialized technologies, methodologies, or service excellence in the ocean observing domain.

2. Resources—provide your past 3 years of contracts or grants, revenue streams, funding, etc.

3. Affiliations.

4. Markets/users/stakeholders being served—as relevant.

5. Other information that demonstrates the viability to provide sustainable operations and data services (e.g., NOAA Readiness Level; https://orta.research.noaa.gov/support/readiness-levels/).

Capability Information:

For each ocean observing system or component you're interested in responding, please include the following key elements:

• Potential cost, efficiency gains, or enhanced data quality your solutions can offer;

• Any intellectual property or data ownership/availability considerations;

• Estimated cost of either the entire system, or individual components (such as oceanographic deployment, manufacturing, ocean data management etc.) to be managed.

Collaboration between the private and public sector and academia is encouraged.

Responses shall be limited to 10 pages, including a one-page executive summary, supporting appendices, title page(s), tables, graphics, images, and figures. Each page should be formatted to fit an 8.5 by 11-inch document, with content area not exceeding 6.5 by 9 inches. Use a 12-point proportional font aligned to the left. Information must be submitted in Microsoft Word DOCX or Adobe Acrobat PDF format.

RFI responses must be received via email by the addresses provided below no later than 11:59 p.m. Eastern Standard Time on Thursday, July 31, 2025. Late submissions will not be considered. The Government is not obligated to review responses received after the deadline.

FOR FURTHER INFORMATION CONTACT: Katelyn Robinson; Phone Number: 301-734-1178; Email: katelyn.robinson@noaa.gov; Jessica Snowden; Phone Number: 301-427-2465; Email: jessica.snowden@noaa.gov or visit the GOMO website at https://globalocean.noaa.gov/.

SUPPLEMENTARY INFORMATION:

I. Background

The Global Ocean Monitoring and Observing (GOMO) Program is the U.S. Federal source and international leader for sustained, in situ global ocean observations and information in support of research, monitoring, and prediction. Ocean observations are used in environmental prediction models that help us understand our dynamic ocean and its impact on the environment. Growing recognition of the ocean's importance for environmental prediction, maritime safety and navigation, coastal planning, farming, and the blue economy is driving demand for sustained ocean observing systems across all ocean basins. Overall, GOMO works to build a resilient, innovative, and fully integrated ocean observing system that benefits scientific research, fosters environmental stewardship, and serves the Nation and society.

In order to meet its Mission and Vision, GOMO seeks to optimize its portfolio of ocean observing capabilities. Here, we issue a General RFI to gain actionable information from the commercial and academic sectors on the potential for improved ocean observing frameworks achieved through private sector firms and/or collaborative public-private partnerships.

II. Scope of Information Requested

The scope of the RFI will cover GOMO's mature observing systems. Key considerations on whether to transition activities to the private sector include: (1) the readiness and capacity of private sector firms to offer competitive alternatives or public-private partnerships to meet observing system needs and requirements; and assume components of observing system life-cycle responsibilities; (2) the potential for diversification, lower overall costs, or improved efficiencies/reliability/risk management; and (3) best practices and lessons learned from the NOAA operational observing community and other entities.

III. The Mature Observing Systems

A mature ocean observing system in GOMO's portfolio is a sustained system that consistently delivers known-quality and FAIR (Findable, Accessible, Interoperable, and Reusable) data, meeting user requirements with proven operational stability. It operates with established standards and protocols, sustainable resources, and clear governance. Mature systems demonstrate potential for transition to alternative operational models, including private sector arrangements.

In this RFI we seek feedback on the following mature systems:

1. The Core Argo Float

2. The Drifter Program

3. Tide Gauges

The Argo Program collects information on temperature and salinity amongst other properties across the world's oceans. Core Argo, which we solicit information on here, was the original focus of the program whose mission was to collect measurements down to a depth of 2000 meters. The instruments that the program utilizes, termed floats, are launched from ships and drift with ocean currents collecting data between the surface and 2000 meters.

The Global Drifter Program is a component of the Global Surface Drifting Buoy Array. It comprises a network of satellite-tracked surface drifting buoys that collect in-situ observations of surface ocean conditions such as mixed layer currents, atmospheric pressure, wind, waves, and sea surface temperature.

Tide gauges are fitted with various sensors that allow for in situ observations of sea level change relative to a height reference. In addition, gauges may provide other oceanographic and meteorological data including wind speed and direction, barometric pressure, air temperature, and water temperature.

An information package on these networks is available on the GOMO website (https://globalocean.noaa.gov/).

IV. Use of Information Received

This RFI is for informational purposes only and does not guarantee the Government will issue a Request for Proposals (RFP) or award a contract for supplies or services. The information received could impact the Government's decision to release an RFP or multiple RFPs in the future, but does not obligate the Government in any way. The Government will not reimburse respondents for any costs associated with responding to this request.

Proprietary information will be handled in accordance with the applicable government regulations. Vendors are advised to clearly mark proprietary information as `Proprietary' on each page to ensure proper handling. Any unmarked information will be considered public domain. The Government is not liable for any damages resulting from proprietary information not properly identified.

Respondents are hereby notified that as part of this evaluation process, NOAA intends to use the information obtained to promote the evolution of NOAA's mature observing systems and ensure alignment with NOAA and Department of Commerce missions. Respondents are also informed that during the RFI evaluation process, agencies may involve Federally Funded Research and Development Centers, Cooperative Institutes, and support contractors to assist with the evaluation.

Participation in this RFI is not a requirement for future opportunities. Vendors who do not submit a response to this RFI are still eligible to submit proposals in response to any future RFP(s) that NOAA may release.

Dated: June 23, 2025.
Emily Larkin,
Director Chief Financial Officer/CAO, (acting), Office of Oceanic and Atmospheric Research, National Oceanic and Atmospheric Administration.

[FR Doc. 2025-11762 Filed 6-25-25; 8:45 am]

BILLING CODE P